DEPARTMENT OF HOUSING AND URBAN DEVELOPMENT

[Docket No. FR-5223-N-04]

Final Fair Market Rents for the Housing Choice Voucher Program and Moderate Rehabilitation Single Room Occupancy Program for Fiscal Year 2009; Revised

AGENCY: Office of the Secretary, HUD.

ACTION: Notice of Final Fair Market Rents (FMRs) for Fiscal Year (FY) 2009, Update

SUMMARY: This notice updates the FMRs for New Orleans, LA and Pearl River, MS based on Random Digit Dialing (RDD) surveys conducted in September and October, 2008.

DATES: Effective Date: April 10, 2009.

FOR FURTHER INFORMATION CONTACT: For technical information on the methodology used to develop FMRs or a listing of all FMRs, please call the HUD USER information line at (800) 245-2691 or access the information on the HUD Web site, http://www.huduser.org/datasets/fmr.html. FMRs are listed at the 40th or 50th percentile in Schedule B. Any questions related to use of FMRs or voucher payment standards should be directed to the respective local HUD program staff. Questions on how to conduct FMR surveys or further methodological explanations may be addressed to Marie L. Lihn or Lynn A. Rodgers, Economic and Market Analysis Division, Office of Economic Affairs, Office of Policy Development and Research, telephone (202) 708-0590. Questions about disaster-related FMR exceptions should be referred to the respective local HUD office. Persons with hearing or speech impairments may access this number through TTY by calling the toll-free Federal Information Relay Service at (800) 877-8339. (Other than the HUD USER information line and TTY numbers, telephone numbers are not toll-free.)

Update

Random Digit Dialing (RDD) surveys were completed in October 2008 for the following FMR areas: New Orleans—Metairie—Kenner, LA MSA, Hattiesburg, MS MSA, and Pearl River County, MS. These RDDs were begun in August 2008 but were interrupted by Hurricane Ike and so not completed until October 2008. The RDD survey for Hattiesburg, MS indicated a slight decline in rents in that metropolitan area, but the difference in rents was within the confidence interval of the survey result so no change in the FMR is indicated. Survey results for Pearl River show an increase in market rents over the published FY2009 FMR.

New Orleans was surveyed at the request of program sponsors in response to evidence that the New Orleans rental market and the Section 8 program were being adversely affected by the FMR bonus applied to the New Orleans FMR in FY2006 to facilitate program operations after hurricanes Katrina and Rita. The New Orleans survey indicates that current market rents in New Orleans are lower than the FY2009 FMR published on September 29, 2008. This revision to the New Orleans FMR effectively eliminates the Katrina-related bonus in New Orleans. Because the rental market appears to be working again in New Orleans, return of the New Orleans FMR to its market level is warranted.

The FMR for the affected areas are updated as follows:

2009 Fair market rent | Number of bedrooms: 0 BR $ | Number of bedrooms: 1 BR $ | Number of bedrooms: 2 BR $ | Number of bedrooms: 3 BR $ | Number of bedrooms: 4 BR $
New Orleans-Metairie—Kenner, LA MSA | 733 | 811 | 949 | 1219 | 1259
Pearl River, MS | 539 | 540 | 647 | 790 | 1113

Dated: March 26, 2009.
Jean Lin Pao,
General Deputy Assistant Secretary for Policy Development and Research.

[FR Doc. E9-8184 Filed 4-9-09; 8:45 am]

BILLING CODE 4210-67-P